DEPARTMENT OF HOMELAND SECURITY

Coast Guard

33 CFR Part 117

[Docket No. USCG-2014-0269]

Drawbridge Operation Regulation; Snohomish River and Steamboat Slough, Everett and Marysville, WA

AGENCY: Coast Guard, DHS.

ACTION: Notice of deviation from drawbridge regulation.

SUMMARY: The Coast Guard has issued a temporary deviation from the operating schedule that governs the SR 529 Bridges across the Snohomish River, mile 3.6 near Everett, WA, and the SR 529 Bridges across Steamboat Slough, mile 1.1, near Marysville, WA. This deviation is necessary to accommodate the Total Health Events Heroes Half Marathon. This deviation allows the bridges to remain in the closed position to allow safe movement of event participants.

DATES: This deviation is effective from 8:00 a.m. to 11:00 a.m. on April 27, 2014.

ADDRESSES: The docket for this deviation, [USCG-2014-0269] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email Steven.M.Fischer3@uscg.mil. If you have questions on viewing the docket, call Cheryl Collins, Program Manager, Docket Operations, telephone 202-366-9826.

SUPPLEMENTARY INFORMATION: The Washington State Department of Transportation (WSDOT) has requested that the SR 529 Bridges across the Snohomish River and Steamboat Slough remain closed to vessel traffic to facilitate safe, uninterrupted roadway passage of participants of the Total Health Events Heroes Half Marathon. The SR 529 Bridges over the Snohomish River at mile 3.6 provide 38 feet of vertical clearance above mean high water elevation while in the closed position. Under normal conditions these bridges operate in accordance with 33 CFR 117.1059(c), which requires advance notification of one-hour when a bridge opening is needed.

The SR 529 Bridges over Steamboat Slough at mile 1.1 provide 10 feet of vertical clearance above mean high water elevation while in the closed position. Under normal conditions these bridges operate in accordance with 33 CFR 117.1059(g), which requires advance notification of four hours when a bridge opening is needed. This deviation period is from 8:00 a.m. to 11:00 a.m. April 27, 2014. The deviation allows the SR 529 Bridges crossing the Snohomish River and Steamboat Slough, to remain in the closed position and not open for maritime traffic from 8:00 a.m. to 11:00 a.m. April 27, 2014. Vessels that do not require a bridge opening may continue to transit beneath the bridges during this closure period. The bridges shall operate in accordance to 33 CFR 117.1059 at all other times. Waterway usage on the Snohomish River and Steamboat Slough includes vessels ranging from commercial tug and barge to small pleasure craft. Mariners will be notified and kept informed of the bridges' operational status via the Coast Guard Notice to Mariners publication and Broadcast Notice to Mariners as appropriate. The bridges will be required to open, if needed, for vessels engaged in emergency response operations during this closure period.

In accordance with 33 CFR 117.35(e), the drawbridges must return to their regular operating schedule immediately at the end of the designated time period. This deviation from the operating regulations is authorized under 33 CFR 117.35.

Dated: April 10, 2014.
Steven M. Fischer,
Bridge Administrator, Thirteenth Coast Guard District.

[FR Doc. 2014-09067 Filed 4-21-14; 8:45 am]

BILLING CODE 9110-04-P